DEPARTMENT OF ENERGY

Federal Energy Regulatory Commission

[Docket No. ER00-2563-000]

Cabrillo Power II LLC; Notice of Filing

May 25, 2000.

Take notice that on May 19, 2000, Cabrillo Power II LLC (Cabrillo II), tendered for filing a corrected tariff sheet to its annual update filing (filed with the Commission on January 21, 2000) governing Reliability Must Run (RMR) services provided by its power plants to the California Independent System Operator Corporation (ISO). Cabrillo II's filing includes corrections to certain typographical errors on the Schedule appended to the RMR Agreement related to Prepaid Start-ups under the RMR Service Agreement.

Cabrillo II has requested an effective date of January 1, 2000.

Copies of this filing have been served upon the ISO, the California Electricity Oversight Board, and the California Public Utilities Commission.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before June 9, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14142 Filed 6-5-00; 8:45 am]

BILLING CODE 6717-01-M